POSTAL SERVICE

39 CFR Part 20

International Mail Manual; Incorporation by Reference

AGENCY: Postal Service™.

ACTION: Final rule.

SUMMARY: The Postal Service announces the issuance of the Mailing Standards of the United States Postal Service, International Mail Manual (IMM®) dated July 10, 2022, and its incorporation by reference in the Code of Federal Regulations.

DATES: This final rule is effective on October 19, 2022. The incorporation by reference of the IMM is approved by the Director of the Federal Register as of October 19, 2022.

FOR FURTHER INFORMATION CONTACT: Dale Kennedy, (202) 268-6592.

SUPPLEMENTARY INFORMATION: The International Mail Manual (IMM) provides our standards for all international mailing services and references for the applicable prices. It was issued on July 10, 2022, and was updated with Postal Bulletin revisions through June 2, 2022. It replaces all previous editions.

The IMM continues to enable the Postal Service to fulfill its long-standing mission of providing affordable, universal mail service. It continues to: (1) increase the user's ability to find information; (2) increase the user's confidence that he or she has found the information they need; and (3) reduce the need to consult multiple sources to locate necessary information. The provisions throughout this issue support the standards and mail preparation changes implemented since the version of July 1, 2022. The International Mail Manual is available to the public on the Postal Explorer® internet site at https://pe.usps.com.

List of Subjects in 39 CFR Part 20

Administrative practice and procedure, Foreign relations; Incorporation by reference.

In view of the considerations discussed above, the Postal Service hereby amends 39 CFR part 20 as follows:

PART 20—INTERNATIONAL POSTAL SERVICE

1. The authority citation for part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise § 20.1 to read as follows:

§ 20.1 Incorporation by reference; Mailing Standards of the United States Postal Service, International Mail Manual.

(a) Mailing Standards of the United States Postal Service, International Mail Manual (IMM) is incorporated by reference into this part with the approval of the Director of the Federal Register under 5 U.S.C. 552(a) and 1 CFR part 51.

(1) Subscriptions. Subscriptions to the IMM can be purchased by the public from the Superintendent of Documents, Washington, DC 20402-9375.

(2) Inspection—USPS. (i) Copies of the IMM, both current and previous issues, are available during regular business hours for reference and public inspection at the U.S. Postal Service Library, National Headquarters in Washington, DC. For access contact 202-268-2906.

(ii) Copies of only the current issue are available during regular business hours for public inspection at area and district offices of the Postal Service and at all post offices, classified stations, and classified branches. The IMM is available for examination on the internet at https://pe.usps.gov.

(3) Inspection—NARA. For information on the availability of this material at NARA, contact the Office of the Federal Register—email: fr.inspection@nara.gov; website: www.archives.gov/federal-register/cfr/ibr-locations.html.

(b) The Director of the Federal Register approved the IMM, updated July 10, 2022, for incorporation by reference as of October 19, 2022.

3. Revise § 20.2 to read as follows:

§ 20.2 Effective date of the International Mail Manual.

The provisions of the International Mail Manual issued July 10, 2022, (incorporated by reference, see § 20.1) are applicable with respect to the international mail services of the Postal Service.

4. Amend § 20.4 by:

a. In paragraph (b):

i. Removing the website “http://pe.usps.gov” and adding in its place the website “https://pe.usps.gov”;

ii. Removing the website “http://usps.com/cpim/ftp/bulletin/pb.htm” and adding in its place the website “https://usps.com/cpim/ftp/bulletin/pb.htm”; and

b. Adding a new entry at the end of table 1 to § 20.4.

The addition reads as follows:

§ 20.4 Amendments to the International Mail Manual.

* * * * *

Table 1 to § 20.4—International Mail Manual
International Mail Manual | Date of issuance
* * * * *
IMM | July 10, 2022.

Sarah E. Sullivan,
Attorney, Ethics and Legal Compliance.

[FR Doc. 2022-22490 Filed 10-18-22; 8:45 am]

BILLING CODE 7710-12-P